DEPARTMENT OF ENERGY

Federal Energy Regulatory Commission

Sunshine Act Meeting Notice

May 8, 2008.

The following notice of meeting is published pursuant to section 3(a) of the government in the Sunshine Act (Pub. L. 94-409), 5 U.S.C. 552b:

Agency Holding Meeting: Federal Energy Regulatory Commission.

Date And Time: May 15, 2008, 10 a.m.

Place: Room 2C, 888 First Street, NE., Washington, DC 20426.

Status: Open.

Matters to be Considered: Agenda.

* Note—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

934th—Meeting

Regular Meeting

May 15, 2008, 10 a.m.

Item No. | Docket No. | Company
Administrative
A-1 | AD02-1-000 | Agency Administrative Matters.
A-2 | AD02-7-000 | Customer Matters, Reliability, Security and Market Operations.
A-3 | AD06-3-000 | Energy Market Update.
Electric
E-1 | OA08-32-000 | PJM Interconnection, L.L.C.
E-2 | OA08-53-000 | Midwest Independent Transmission System Operator, Inc.
E-3 | OA08-42-000 | Midwest Independent Transmission System Operator, Inc. and American Transmission Company, LLC.
E-4 | OA08-41-000 | MidAmerican Energy Company.
E-5 | OA08-58-000 | ISO New England Inc.
E-6 | OA08-21-000 | Maine Public Service Company.
E-7 | RC08-4-000 | New Harquahala Generating Company, LLC.
E-8 | EL08-34-000 | Maryland Public Service Commission v. PJM Interconnection, L.L.C.
| EL08-47-000 | PJM Interconnection, L.L.C.
E-9 | RM06-22-001 | Mandatory Reliability Standards for Critical Infrastructure Protection.
E-10 | RM01-8-010 | Revised Public Utility Filing Requirements for Electric Quarterly Reports.
E-11 | OMITTED
E-12 | ER96-2585-007 | Niagara Mohawk Power Corporation.
| ER98-6-012 | New England Power Company.
| ER99-2387-005 | KeySpan-Ravenswood, Inc.
| ER02-1470-005 | KeySpan-Glenwood Energy Center, LLC.
| ER02-1573-005 | KeySpan-Port Jefferson Energy Center, LLC.
| ER05-1249-005 | Granite State Electric Company, Massachusetts Electric Company, and The Narragansett Electric Company.
| EC06-125-000 | National Grid plc and KeySpan Corporation.
E-13 | ER07-940-001 | Midwest Independent Transmission System Operator, Inc. and PJM Interconnection, L.L.C.
E-14 | ER99-2541-009 | Carthage Energy, LLC.
| ER05-731-003 | Central Maine Power Company.
| ER97-3556-017 | Energetix, Inc.
| ER04-582-007 | Hartford Stream Company.
| ER99-221-012 | New York State Electric & Gas Corporation.
| ER99-220-014 | NYSEG Solution, Inc.
| ER97-3553-005 | PEI Power II, LLC, Rochester Gas and Electric Corporation.
E-15 | ER96-496-016 | Northeast Utilities Service Company.
| ER99-14-013
| ER99-3658-003 | Select Energy, Inc.
E-16 | EL08-43-000 | TransCanada Power Marketing Ltd. v. ISO New England Inc.
E-17 | EL06-10-000 | California Independent System Operator Corporation.
| EL06-11-000 | Pacific Gas and Electric Company.
E-18 | TS04-286-003 | Exelon Corporation.
E-19 | OMITTED
E-20 | ER07-1285-002 | Niagara Mohawk Power Corporation.
E-21 | ER07-1019-003 | Niagara Mohawk Power Corporation.
| ER07-1019-004
| ER07-1020-004
| ER07-1020-003
| ER07-1021-004
| ER07-1021-003
E-22 | OMITTED
E-23 | OA08-9-000 | PJM Interconnection, L.L.C.
E-24 | OA08-5-000 | Southwest Power Pool, Inc.
E-25 | OA07-51-000 | Mid-Continent Area Power Pool.
| OA07-51-001
E-26 | OA08-14-000 | Midwest Independent Transmission System Operator, Inc.
| OA08-14-001
| OA07-57-000 | Midwest Independent Transmission System Operator, Inc.
| OA08-4-000 | Midwest ISO Transmission Owners and Midwest Stand-Alone Transmission Companies.
E-27 | ER07-478-005 | Midwest Independent Transmission System Operator, Inc.
E-28 | ER07-478-006 | Midwest Independent Transmission System Operator, Inc.
E-29 | OA08-12-000 | California Independent System Operator Corporation.
E-30 | EL07-102-000 | Montgomery Great Falls Energy Partners LP v. NorthWestern Corporation.
Miscellaneous
M-1 | PL08-3-000 | Enforcement of Statutes, Regulations and Orders.
M-2 | PL08-2-000 | Obtaining Guidance on Regulatory Requirements.
M-3 | RM08-8-000 | Ex Parte Contacts and Separation of Functions.
M-4 | RM08-10-000 | Submissions to the Commission upon Staff Intention to Seek an Order to Show Cause.
Gas
G-1 | IN06-3-003 | Energy Transfer Partners, L.P., Energy Transfer Company, ETC Marketing Ltd., Houston Pipeline Company, Oasis Pipeline, L.P., Oasis Pipeline Company Texas, L.P., ETC Texas Pipeline Ltd., Oasis Division.
G-2 | RP04-98-002 | Indicated Shippers v. Columbia Gulf Transmission Company.
| RP04-98-003
G-3 | RP98-18-033 | Iroquois Gas Transmission, L.P.
G-4 | GP99-15-005 | Burlington Resources Oil & Gas Company.
| RP98-40-041 | Panhandle Eastern Pipe Line Company.
Hydro
H-1 | HB73-93-15-003 | Arkansas Electric Cooperative Corporation.
Certificates
C-1 | OMITTED
C-2 | CP08-68-000 | Trunkline LNG Company, LLC.
C-3 | CP08-54-000 | Columbia Gulf Transmission Company.
| CP08-55-000 | Tennessee Gas Pipeline Company.

Kimberly D. Bose,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-11012 Filed 5-14-08; 8:45 am]

BILLING CODE 6717-01-P